DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, email paperwork@hrsa.gov or call the HRSA Reports Clearance Office on (301) 443-1984.

The following request has been submitted to the Office of Management and Budget for review under the Paperwork Reduction Act of 1995:

Proposed Project: Maternal, Infant, and Early Childhood Home Visiting Program FY 2012 Competitive Funding Opportunity Announcement (OMB No. 0915-xxxx)—[New]

On March 23, 2010, the President signed into law the Patient Protection and Affordable Care Act (the Act). Section 2951 of the Act amended Title V of the Social Security Act by adding a new section, 511, which authorized the creation of the Maternal, Infant, and Early Childhood Home Visiting Program (http://frwebgate.access.gpo.gov/cgi-bin/getdoc.cgi?dbname=111_cong_billsdocid=f:h3590enr.txt.pdf, pages 216-225). The Act responds to the diverse needs of children and families in communities at risk and provides an unprecedented opportunity for collaboration and partnership at the federal, state, and community levels to improve health and development outcomes for at-risk children through evidence-based home visiting programs.

Under this program $91 million was made available to eligible States and territories by formula in FY 2010, and in FY 2011, $125 million was made available by formula. Additionally, a competitive funding opportunity announcement (FOA) was issued in June 2011 to allow interested States to apply for one of two possible grant types: Development Grants and Expansion Grants. Development Grants are intended to support States and jurisdictions with modest evidence-based home visiting programs to expand the depth and scope of these efforts. Expansion Grants are intended to recognize States and jurisdictions that have already made significant progress towards a high-quality home visiting program or towards embedding their home visiting program into a comprehensive, high-quality early childhood system. Of State applicants to the competitive grant program, 13 States were awarded Development Grants, and nine States were awarded Expansion Grants. Currently, the 54 States and jurisdictions participating in the formula-funded program have begun implementing their State Home Visiting Plans.

Because the FY 2011 formula grants were for 2 years, no additional FOA will be issued this year for such grants, but the State grantees will be completing non-competing progress reports in order to secure the release of their FY 2012 allocations. The 22 States that received competitive grant funding have also begun to carry out these proposed programs, integrating them with their formula-based programming. These competitive grants are for 2 years (Development Grants) and 4 years (Expansion Grants) respectively, and those grantees will also be completing non-competitive progress reports for FY 2012.

An additional $83.9 million is available in FY 2012 for the 2-year Development and Expansion Grants. Ten Expansion Grants, totaling $71.9 million, have been awarded by rank order from among high-ranking applicants under the FY 2011 announcement. An FY 2012 competitive FOA will announce approximately $12 million for new Development Grants. The intent of these Development Grants, as announced in FY 2011, is to support States and jurisdictions with modest evidence-based home visiting programs to expand the depth and scope of these efforts, with the intent to develop the infrastructure and capacity to sustain successful home visiting programs. It is anticipated that between four and eight Development Grants will be awarded. The total grant award may range between $1 million to $3 million annually. Applicants may apply for a ceiling amount of up to $3 million per year. The project period is 2 years.

The annual estimate of burden associated with the FY2012 competitive Development Grant Funding Opportunity Announcement is as follows:

Instrument | Number of respondents | Responses per respondent | Total responses | Hours per response | Total burden hours
Introduction | 20 | 1 | 20 | 10 | 200
Needs Assessment | 20 | 1 | 20 | 14 | 280
Methodology | 20 | 1 | 20 | 31 | 620
Work Plan | 20 | 1 | 20 | 31 | 620
Resolution of Challenges | 20 | 1 | 20 | 14 | 280
Evaluation and Technical Support Capacity | 20 | 1 | 20 | 48 | 960
Organizational Information | 20 | 1 | 20 | 10 | 200
Additional Attachments | 20 | 1 | 20 | 13 | 260
Total | 160 |  | 160 | 171 | 3,420

Written comments and recommendations concerning the proposed information collection should be sent within 30 days of this notice to the desk officer for HRSA, either by email to OIRA_submission@omb.eop.gov or by fax to 202-395-6974. Please direct all correspondence to the “attention of the desk officer for HRSA.”

Dated: May 29, 2012.
Reva Harris,
Acting Director, Division of Policy and Information Coordination.

[FR Doc. 2012-13531 Filed 6-4-12; 8:45 am]

BILLING CODE 4165-15-P